NUCLEAR REGULATORY COMMISSION

10 CFR Part 70

RIN 3150-AH96

Facility Change Process Involving Items Relied on for Safety: Confirmation of Effective Date

AGENCY: Nuclear Regulatory Commission.

ACTION: Direct final rule: Confirmation of effective date.

SUMMARY: The Nuclear Regulatory Commission (NRC) is confirming the effective date of December 11, 2006, for the direct final rule that was published in the Federal Register on September 27, 2006 (71 FR 56344). This direct final rule amended the NRC's regulations to clarify a requirement pertaining to items relied on for safety (IROFS). This rulemaking corrected an inconsistency in the regulations pertaining to IROFS.

DATES: The direct final rule published at 71 FR 56344, Sept. 27, 2006 is effective December 11, 2006.

ADDRESSES: Documents related to this rulemaking, including comments received, may be examined at the NRC Public Document Room, Room O-1F23, 11555 Rockville Pike, Rockville, MD. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Dr. Anthony N. Tse, Office of Federal and State Materials and Environmental Management Programs, U.S. Nuclear Regulatory Commission, Washington, DC 20555, telephone (301) 415-6233 (e-mail: ant@nrc.gov).

SUPPLEMENTARY INFORMATION: On September 27, 2006 (71 FR 56344), the NRC published in the Federal Register a direct final rule amending its regulations in 10 CFR part 70 to clarify a requirement pertaining to items relied on for safety (IROFS). In the direct final rule, NRC stated that if no significant adverse comments were received, the direct final rule would become final on December 11, 2006. The NRC did not receive any comments that warranted withdrawal of the direct final rule. Therefore, this rule will become effective as scheduled.

Dated at Rockville, Maryland, this 27th day of November, 2006.
For the Nuclear Regulatory Commission.
Michael T. Lesar,
Chief, Rulemaking, Directives, and Editing Branch, Division of Administrative Services, Office of Administration.

[FR Doc. E6-20321 Filed 11-30-06; 8:45 am]

BILLING CODE 7590-01-P